DEPARTMENT OF AGRICULTURE

Foreign Agricultural Service

Notice of Request for a Revision of a Currently Approved Information Collection

AGENCY: Foreign Agricultural Service, USDA.

ACTION: Notice and request for comments.

SUMMARY: In accordance with the Paperwork Reduction Act of 1995, this notice announces the intention of the Foreign Agricultural Service to revise the currently approved information collection for the USDA's Quality Samples Program.

DATES: Comments on this notice must be received by November 2, 2020 to be assured of consideration.

ADDRESSES: You may send comments, identified by the OMB Control number 0551-0047, by any of the following methods:

• Federal eRulemaking Portal: http://www/regulations.gov. This portal enables respondents to enter short comments or attach a file containing lengthier comments.

• Email: PODadmin@usda.gov. Include OMB Control Number 0551-0047 in the subject line of the message.

• Mail, Courier, or Hand Delivery: Curt Alt, U.S. Department of Agriculture, Foreign Agricultural Service, 1400 Independence Avenue SW, Room 6512, Washington, DC 20250.

Instructions: All items submitted by mail or electronic mail must include the agency name. Comments received in response to this docket will be made available for public inspection and posted without change, including any personal information, to http://www.regulations.gov.

FOR FURTHER INFORMATION CONTACT: Curt Alt, Program Operations Division, Foreign Agricultural Service, U.S. Department of Agriculture, Room 6512, Washington, DC 20250-1034, telephone: (202) 690-4784, email: PODAdmin@usda.gov.

SUPPLEMENTARY INFORMATION:

Title: USDA Quality Samples Program.

OMB Number: 0551-0047.

Expiration Date of Approval: November 30, 2020.

Type of Request: Revision of a currently approved information collection.

Abstract: Under the USDA Quality Samples Program, information will be gathered from applicants desiring to receive grants under the program to determine the viability of requests for resources to implement activities in foreign countries. Recipients of grants under the program must submit written evaluation reports as set forth in the annual Notices of Funding Availability for the Quality Samples Program. Submitted information is used to develop effective grant agreements and assure that statutory requirements and program objectives are met.

Estimate of Burden: The public reporting burden for each respondent resulting from information collection under the USDA Quality Samples Program varies in direct relation to the number and type of agreements entered into by such respondent. The estimated average reporting burden for the USDA Quality Samples Program is 4.4 hours per response.

Type of Respondents: Government agencies, private organizations, agricultural cooperatives, and export trade associations.

Estimated Number of Respondents: 10 per annum.

Estimated Number of Responses per Respondent: 25 per annum.

Estimated Total Annual Burden of Respondents: 1,100 hours.

Copies of this information collection can be obtained from Ronald Croushorn, the Agency Information Collection Coordinator, at (202) 720-3038 or email at Ron.Croushorn@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility and clarity of the information to be collected; and (d) ways to minimize the burden of the collection of information on those who are to respond, including through the use of automated, electronic, mechanical, or other technological collection techniques or other forms of information technology.

FAS is committed to compliance with the Government Paperwork Elimination Act, which requires Government agencies, in general, to provide the public the option of submitting information or transacting business electronically to the maximum extent possible.

Comments will be available for inspection online at http://www.regulations.gov and at the mail address listed above between 8:00 a.m. and 4:30 p.m., Monday through Friday, except holidays.

Persons with disabilities who require an alternative means for communication of information (Braille, large print, audiotape, etc.) should contact USDA's Target Center at (202) 720-2600 (voice and TDD).

All comments received in response to this notice, including names and addresses when provided, will be a matter of public record. Comments will be summarized and included in the submission for Office of Management and Budget approval.

E-Government Act Compliance

FAS is committed to complying with the E-Government Act of 2002, to promote the use of the internet and other information technologies to provide increased opportunities for citizen access to Government information and services, and for other purposes. Persons with disabilities who require an alternative means for communication of information (e.g., Braille, large print, audiotape, etc.) should contact USDA's Target Center at (202) 720-2600 (voice and TDD).

Ken Isley,
Administrator, Foreign Agricultural Service.

[FR Doc. 2020-19497 Filed 9-2-20; 8:45 am]

BILLING CODE 3410-10-P